DEPARTMENT OF THE INTERIOR

Fish and Wildlife Service

50 CFR Part 17

RIN 1018-AH76

Endangered and Threatened Wildlife and Plants; Critical Habitat Designation for Scotts Valley Polygonum (Polygonum hickmanii)

AGENCY: Fish and Wildlife Service, Interior.

ACTION: Proposed rule; reopening of public comment periods; notice of availability of draft economic analysis and final addendum.

SUMMARY: We, the U.S. Fish and Wildlife Service (Service), announce the availability of a draft economic analysis and final addendum for the proposed designation of critical habitat for Scotts Valley polygonum (Polygonum hickmanii), a species restricted to the northern Scotts Valley area in Santa Cruz County, California. We are also reopening the comment periods for the proposal to list this species as endangered and on the proposal to designate critical habitat for this species to allow all interested parties to comment simultaneously on the proposed rules, draft economic analysis, and final addendum. The economic analysis shows a range of likely costs from the designation of the proposed critical habitat of between $165,000 to $565,000 over a 10-year period. Comments previously submitted need not be resubmitted as they will be incorporated into the public record as part of this extended comment period, and will be fully considered in the final rule.

DATES: We will accept comments until December 6, 2002. Comments must be received by 5 p.m. on the closing date. Any comments that are received after the closing date may not be considered in the final decisions.

ADDRESSES: Written comments and information should be submitted to the Field Supervisor, U.S. Fish and Wildlife Service, Ventura Fish and Wildlife Office, 2493 Portola Road, Suite B, Ventura, CA 93003. Written comments may also be sent by fax to 805-644-3958 or hand-delivered to our Ventura Fish and Wildlife Office at the above address. You may also send comments by electronic mail (e-mail) to fw1svpolygonum@r1.fws.gov.

You may view comments and materials received, as well as supporting documentation used in the preparation of this proposed rule, by appointment, during normal business hours in the U.S. Fish and Wildlife Service's Ventura Fish and Wildlife Office at the above address. You may obtain copies of the proposed rule and draft economic analysis from the above address, by calling 805-644-1766, or from our Web site at http://ventura.fws.gov/.

FOR FURTHER INFORMATION CONTACT: Diane Noda, Field Supervisor, Ventura Fish and Wildlife Office, at the above address (telephone 805-644-1766; facsimile 805-644-3958).

SUPPLEMENTARY INFORMATION:

Background

Polygonum hickmanii is a small, erect, taprooted annual in the buckwheat family (Polygonaceae). It grows from 2 to 5 centimeters (cm) (1 to 2 inches (in)) tall, and can be either single stemmed or profusely branching near the base in more mature plants. The linear-shaped leaves are 0.5 to 3.5 cm (0.2 to 1.4 in) long and 1 to 1.5 cm (0.4 to 0.6 in) wide and tipped with a sharp point. The single white flowers consist of two outer petals and three inner petals and are found in the axils of the bracteal leaves. The plant flowers from late May to August. Seed production ranges from a few dozen in a typical individual to as many as 200 in a particularly robust individual (Randy Morgan, biological consultant, pers. comm., 1998). Although pollination for this species has not been studied, Morgan observed a sphecid wasp (family Sphecidae) visitation to an individual of P. hickmanii (R. Morgan, pers. comm., 1998). Other potential pollinators have not been identified at this time, and the degree to which P. hickmanii depends on insect pollinators (rather than being self-pollinated) has not been determined. The nearest location of a closely related species, Polygonum parryi, is at Mount Hamilton, about 48 kilometers (km) (30 miles (mi)) inland. P. hickmanii differs from P. parryi in its larger white flowers, longer leaves, larger anthers and seeds, and longer, straight stem sheath (Hinds and Morgan 1995).

Polygonum hickmanii is known from two sites about 1.6 km (1 mi) apart at the northern end of Scotts Valley in Santa Cruz County, California. The species is found on gently sloping to nearly level fine-textured shallow soils over outcrops of Santa Cruz mudstone and Purisima sandstone (Hinds and Morgan 1995). Polygonum hickmanii occurs with Chorizanthe robusta var. hartwegii (Scotts Valley spineflower), a federally endangered species, and other small annual herbs in patches within a more extensive annual grassland habitat. These small patches have been referred to as “wildflower fields” because they support a large number of native herbs, in contrast to the adjacent annual grasslands that support a greater number of non-native grasses and herbs. While the wildflower fields are underlain by shallow, well-draining soils, the surrounding annual grasslands are underlain by deeper soils with a greater water-holding capacity, and therefore more easily support the growth of non-native grasses and herbs. The surface soil texture in the wildflower fields tends to be consolidated and crusty rather than loose and sandy (Biotic Resources Group (BRG) 1998). Elevation of the sites is from 215 to 245 meters (m) (700 to 800 feet (ft)) (Hinds and Morgan 1995).

Polygonum hickmanii and Chorizanthe robusta var. hartwegii are associated with a number of native herbs including goldfields (Lasthenia californica), sandwort (Minuartia douglasii), California sandwort (Minuartia californica), gilia (Gilia clivorum), owl's clover (Castilleja densiflora), sky lupine (Lupinus nanus), brodiaea (Brodiaea terrestris), Mount Diablo cottonweed (Stylocline amphibola), Gray's clover (Trifolium grayii), and coast tarplant (Hemizonia corymbosa). Non-native species present include filago (Filago gallica) and rattail (Vulpia myuros) (California Natural Diversity Data Base (CNDDB) 1998; R. Morgan, pers. comm., 1998). In many cases, the habitat also supports a crust of mosses and lichens (BRG 1998).

Approximately 11 colonies of Polygonum hickmanii occur on 2 sites in the Scotts Valley area. The first site is located north of Casa Way and west of Glenwood Drive in northern Scotts Valley. Referred to as the Glenwood site, it contains five colonies of P. hickmanii that occur on two privately owned parcels of land. Several colonies are situated within a 4-hectare (ha) (9-acre (ac) preserve on a 19-ha (48-ac) parcel that is owned by the Scotts Valley Unified School District (Denise Duffy and Associates 1998), and other colonies are located approximately 0.08 km (0.13 mi) to the west of the School District colony on a parcel of land owned by the Salvation Army (CNDDB 1998).

Additional patches of suitable but unoccupied habitat for Polygonum hickmanii, Scotts Valley spineflower, and other wildflower field taxa have been mapped on adjacent parcels directly east and north of the School District preserve (Denise Duffy and Associates 1998). These parcels are owned by American Dream/Glenwood L.P. A residential development has been approved for construction; it includes a proposed open space parcel that includes all of the suitable but unoccupied habitat for P. hickmanii (Impact Sciences 2000a).

The second site is referred to as the “Polo Ranch” site. Located just east of Highway 17 and north of Navarra Road in northern Scotts Valley, this site is approximately 1.6 km (1 mi) east of the Salvation Army and School District colonies. Colonies within the Polo Ranch site occur on a parcel of land owned by Greystone Homes (Lyons, in litt., 1997). Six colonies of Polygonum hickmanii, as well as Scotts Valley spineflower, occur within 0.2 km (0.1 mi) of each other on the Polo Ranch site (Lyons, in litt., 1997; Impact Sciences 2000b).

Pursuant to the Endangered Species Act of 1973, as amended (Act) (16 U.S.C. 1531 et seq.), Polygonum hickmanii was proposed as endangered on November 9, 2000 (65 FR 67335). On February 15, 2001, we published in the Federal Register (66 FR 10440) a rule proposing critical habitat for P. hickmanii and Chorizanthe robusta var. hartwegii concurrently. Since a final listing determination had not been made for P. hickmanii, on September 19, 2001, we published in the Federal Register (66 FR 48227) a notice requesting the public to comment on the draft economic analysis for only C. robusta var. hartwegii. Based on the comments received, a final addendum to the draft economic analysis was prepared. The final addendum for the economic analysis included both species because it was based on the proposed critical habitat designation. The final critical habitat determination for C. robusta var. hartwegii was published on May 29, 2002 (67 FR 37336). A final critical habitat determination has not been made for P. hickmanii. We anticipate publishing the final listing and critical habitat determinations for P. hickmanii concurrently.

Section 4(b)(2) of the Act requires that the Secretary shall designate or revise critical habitat based upon the best scientific and commercial data available, after taking into consideration the economic impact of specifying any particular area as critical habitat. Based upon the previously published proposal to designate critical habitat for the Polygonum hickmanii, and comments received during the previous comment period, we have prepared a draft economic analysis and final addendum of the proposed critical habitat designation.

Copies of the draft economic analysis and final addendum are available on the Internet at http://www.r1.fws.gov or by writing to the Field Supervisor, U.S. Fish and Wildlife Service, Ventura Fish and Wildlife Office, 2493 Portola Road, Suite B, Ventura, CA 93003.

Public Comments Solicited

We have reopened the comment periods at this time in order to accept the best and most current scientific and commercial data available regarding the proposed listing and critical habitat determinations for Polygonum hickmanii, and the draft economic analysis and final addendum associated with the designation of critical habitat. Previously submitted written comments on the listing or critical habitat proposals need not be resubmitted. We will accept written comments and information during this reopened comment period. If you wish to comment, you may submit your comments and materials concerning this proposal by any of several methods:

You may mail or hand-deliver written comments and information to the Field Supervisor, U.S. Fish and Wildlife Service, Ventura Fish and Wildlife Office, 2493 Portola Road, Suite B, Ventura, CA 93003. Hand deliveries must be made during normal business hours.

You may also send comments by electronic mail (e-mail) to fw1svpolygonum@r1.fws.gov. Please submit electronic comments in ASCII file format and avoid the use of special characters and encryption. Please include “Attn: RIN 1018-AH82” and your name and return address in your e-mail message. If you do not receive a confirmation from the system that we have received your e-mail message, contact us directly by calling our Ventura Fish and Wildlife Office at phone number 805/644-1766.

We solicit comments or suggestions from the public, other concerned governmental agencies, tribes, the scientific community, industry, or any other interested parties concerning the proposal or the draft economic analysis. We particularly seek comments concerning:

(1) Does the analysis adequately address the indirect effects eg: property tax losses due to reduced home construction, losses to local business due to reduced construction activity.

(2) Does the analysis accurately define and capture opportunity costs.

Author

The primary author of this notice is Connie Rutherford (see ADDRESSES section).

Authority

The authority for this action is the Endangered Species Act of 1973 (16 U.S.C. 1531 et seq.).

Dated: November 7, 2002.
Paul Hoffman,
Acting Assistant Secretary for Fish and Wildlife and Parks.

[FR Doc. 02-29621 Filed 11-19-02; 8:45 am]

BILLING CODE 4310-55-P